DEPARTMENT OF AGRICULTURE

Animal and Plant Health Inspection Service

[Docket No. APHIS-2012-0058]

Data Standards for Electronic Interstate Certificates of Veterinary Inspection

AGENCY: Animal and Plant Health Inspection Service, USDA.

ACTION: Notice.

SUMMARY: This notice announces the availability of new data standards required to generate an official interstate certificate of veterinary inspection (ICVI). The data standards would define the minimum data elements required to generate an ICVI using an electronic data system, outline the methods by which data can be shared between participating systems, and provide methods of approving data systems for data quality control. We are making these standards available for public review and comment.

DATES: We will consider all comments that we receive on or before January 30, 2013.

ADDRESSES: You may submit comments by either of the following methods:

• Federal eRulemaking Portal: Go to http://www.regulations.gov/#!documentDetail;D=APHIS-2012-0058-0001.

• Postal Mail/Commercial Delivery: Send your comment to Docket No. APHIS-2012-0058, Regulatory Analysis and Development, PPD, APHIS, Station 3A-03.8, 4700 River Road Unit 118, Riverdale, MD 20737-1238.

The data standards and any comments we receive may be viewed at http://www.regulations.gov/#!docketDetail;D=APHIS-2012-0058 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Joseph Vantiem, Information Technology Coordinator, National Animal Health Policy and Programs, VS, APHIS, 4700 River Road Unit 35, Riverdale, MD 20737-1231; (301) 851-3579.

SUPPLEMENTARY INFORMATION: The Animal and Plant Health Inspection Service (APHIS) has established a set of minimum data standards for any electronic system to be used to generate an official interstate certificate of veterinary inspection (ICVI). The standards were developed with the National Assembly of State Animal Health Officials.

ICVIs protect animal health in several important ways. States use ICVIs to monitor animal movements, address specific animal health concerns, and enforce regulations. Specifically, ICVI are used to document the health status of animals moving interstate and track the animals' movement. ICVIs are also used to record observations and test results that show freedom from specific diseases.

ICVIs have traditionally been paper documents; however, a paper-based system can result in lag time between animal movement and the distribution of documents as well as inefficiencies in document archiving and retrieval.

APHIS has attempted to address these deficiencies by developing an electronic module that lets States enter ICVI data into the Veterinary Services Process Streamlining (VSPS) system. Several States and private entities are also attempting to improve the usefulness of ICVIs by developing electronic versions for use by State animal health officials and accredited veterinarians.

Since ICVIs contain important data fields for both animal disease traceability and disease surveillance, the data elements used in ICVIs must be compatible with one another and with the current database standards being implemented in the Surveillance Collaborative Services (SCS) application. SCS is an animal health and surveillance system that is used to maintain test and vaccination data and other program information such as disease or certification status for flocks/herds subject to APHIS' animal disease or pest surveillance and control programs.

We have prepared a document entitled “Data Standards for Interstate Certificates of Veterinary Inspection” (July 2012) that establishes a common set of data for ICVIs so the data can be collected by a variety of methods and be shared seamlessly between all participating entities. We are making this document available to the public for review and comment before posting it on the APHIS Web site ¹ for use by interested States and private entities.

¹ The final standards document will be available at http://www.aphis.usda.gov/animal_health/index.shtml.

The data standards document may be viewed on the Regulations.gov Web site or in our reading room (see ADDRESSES above for instructions for accessing Regulations.gov and information on the location and hours of the reading room). You may also request paper copies of the data standards by calling or writing to the person listed under FOR FURTHER INFORMATION CONTACT.

Done in Washington, DC, this 20th day of December, 2012. .
Kevin Shea,
Acting Administrator, Animal and Plant Health Inspection Service.

[FR Doc. 2012-31401 Filed 12-28-12; 8:45 am]

BILLING CODE 3410-34-P